DEPARTMENT OF AGRICULTURE

Agricultural Marketing Service

[Docket No. FV01-81-2NC]

Notice of Request for OMB Approval and Extension of a Currently Approved Information Collection

AGENCY: Agricultural Marketing Service, USDA.

ACTION: Notice and request for comments.

SUMMARY: In accordance with the Paperwork Reduction Act of 1995 (44 U.S.C. Chapter 35), this notice announces that the Agricultural Marketing Service (AMS) is submitting to the Office of Management and Budget (OMB) for approval and extension the information collection on prune trees grown in California per clause (3) of Section 32 of the Act of August 24, 1935, as amended (7 U.S.C. 612c). This information collection was approved as an emergency package through May 31, 2002, and assigned OMB No. 0581-0201.

DATES: Comments on this notice must be received by May 13, 2002.

FOR FURTHER INFORMATION CONTACT: Contact Caroline C. Thorpe, Marketing Specialist, Marketing Order Administration Branch, Fruit and Vegetable Programs, AMS, USDA, room 2525-S, 1400 Independence Avenue, SW., Stop 0237, Washington, DC 20090-6456; Tel: (202) 720-2491, Fax: (202) 720-8983, or E-mail: moab.docketclerk@usda.gov.

Small businesses may request information on this notice by contacting Jay Guerber, Regulatory Fairness Representative, Marketing Order Administration Branch, Fruit and Vegetable Programs, AMS, USDA, room 2525-S, 1400 Independence Avenue, SW., Stop 0237, Washington, DC 20090-6456; telephone (202) 720-2491, Fax: (202) 720-5698, or E-mail: Jay.Guerber@usda.gov.

SUPPLEMENTARY INFORMATION: Title: California Prune/Plum Tree Removal Program (“the program”).

OMB Number: 0581-0201.

Expiration Date of Approval: May 31, 2002.

Type of Request: Approval and extension of a currently approved information collection.

Abstract: The information collection requirements in this request are applied only to those growers who voluntarily participate in the tree removal program. The information is essential to carry out the program, and to administer release of payments to participating growers.

This program is intended to reestablish prune/plum growers' purchasing power and is authorized under clause (3) of section 32 of the Act of August 24, 1935, as amended (Section 32). Clause (3) of Section 32 authorizes USDA to “reestablish farmers' purchasing power by making payments in connection with the normal production of any agricultural commodity for domestic consumption.” Section 32 also authorizes USDA to use Section 32 funds “* * * at such times, and in such manner, and in such amounts, as * * *” is found to “* * * effectuate substantial accomplishments of any one or more of the purposes of this section.” Furthermore, “Determinations by the Secretary as to what constitutes * * * normal production for domestic consumption shall be final.”

The forms covered under this information collection require the minimum information necessary to effectively carry out the requirements of the program, and their use is necessary to fulfill the intent of clause (3) of Section 32 and the rules and regulations issued thereunder.

The California prune industry has requested a tree removal program estimated to cost $20 million. The industry asked the Department of Agriculture (USDA) to provide $17 million in Section 32 funds. The industry has contributed $3 million. California's prune bearing acreage is expected to reach 94,000 acres next year if no acreage is removed. The industry's objective is to remove a minimum of 20,000 bearing acres of prune trees. Prune trees are generally planted 100 to 140 trees per acre. With an average yield of 2.2 tons per acre (5-year average), about 44,000 tons of prune variety plums would be removed from production under the program. Such a decrease will more closely align prune supply with demand while assuring an adequate supply for all market needs. If less productive acres are removed (yields less than 2.2 tons per acre) or less than 20,000 acres are removed, then the reduction in production would be less than 44,000 tons. With prune supplies more in line with market needs, market conditions are expected to stabilize and producer prices are expected to rise to more remunerative levels.

Two forms are needed to implement the program. The first form is “Application for Prune Tree Removal Program” (FV-298). Growers who wish to participate in the program must submit this form to the Prune Marketing Committee (Committee), which administers the program. Upon receipt of FV-298, the Committee will send the grower a “Notification of Prune Tree Removal” (FV-299) that requires only the grower's signature certifying that the trees were removed, and the date of removal. The notification also must be signed by a Committee staff member to verify actual removal of the trees. Growers are required to maintain copies of both forms for at least three years.

These forms require the minimum amount of information necessary to carry out the program. In addition, USDA has developed these forms in consultation with the Committee on behalf of the California prune industry. Because this program is not maintained by any other agency, the information collected is not available from any other existing records.

The information collected will be used only by authorized representatives of the USDA, including AMS' Fruit and Vegetable Programs' regional and headquarters staff, and authorized employees of the Committee. All information collected will be treated as confidential (as indicated on the forms), and will be in conformance with the Privacy Act and the Freedom of Information Act.

AMS estimates that the total annual burden are 250 hours. The proposed request for approval of the information collection under the program is as follows:

FV-298—Application for Prune Tree Removal Program Reporting:

Estimate of Burden per Response: 30 minutes.

Respondents: California prune growers.

Estimated Number of Respondents: 480.

Estimated Annual Number of Responses Per Respondent: 1.

Estimated Total Annual Burden on Respondents: 240 hours.

Recordkeeping:

Estimate of Burden: 1.2 minutes.

Respondents: California prune growers.

Estimated Number of Respondents: 480.

Estimated Annual Time per Respondent: 1 hour.

Estimated Total Annual Burden on Respondents: 10 hours.

Comments: Comments are invited on: (1) Whether the proposed collection of the information is necessary for the proper performance of the functions of AMS, including whether the information will have practical utility; (2) the accuracy of AMS estimate of the burden of the proposed collection of information, including the validity of the methodology and assumptions used; (3) ways to enhance the quality, utility and clarity of the information to be collected; and (4) ways to minimize the burden of the collection of information on those who are to respond, including through the use of appropriate automated, electronic, mechanical, or other technological collection techniques or other forms of information technology.

Comments should reference OMB No. 0581-0201 and the California Prune Tree Removal Program, and be mailed to the Docket Clerk, Fruit and Vegetable Programs, AMS, USDA, 1400 Independence Avenue, SW., Stop 0237, Washington, DC 20090-6456; Fax (202) 720-5698; or E-mail: moab.docketclerk@usda.gov. Comments should reference the docket number and the date and page number of this issue of the Federal Register. All comments received will be available for public inspection in the Office of the Docket Clerk during regular USDA business hours at room 2525-S, 1400 Independence Avenue, SW., Stop 0237, Washington, DC 20090-6456; or telephone: (202) 720-2491.

All responses to this notice will be summarized and included in the request for OMB approval. All comments will also become a matter of public record.

Dated: March 8, 2002.
A.J. Yates,
Administrator, Agricultural Marketing Service.

[FR Doc. 02-6099 Filed 3-13-02; 8:45 am]

BILLING CODE 3410-02-P